DEPARTMENT OF EDUCATION

[CFDA No. 84.215L]

Smaller Learning Communities Grant Program Notice Inviting Applications for New Awards for Fiscal Year (FY) 2000 Funds; Correction

SUMMARY: On May 17, 2000 a notice inviting applications for new awards under the Smaller Learning Communities Grant program was published in the Federal Register (65 FR 31386). The notice was a complete application package and contained all of the information, application forms and instructions necessary to apply for grants under this program. One of the forms—Coversheet: Smaller Learning Communities (SLC) Grant Program Application Package—was printed incorrectly. Another form—Application for Federal Assistance (ED 424)—contained an incorrect CFDA number. The correct forms are included with this correction notice.

Also, in column two of page 31390, line 41, remove “Note: ED Form 80-0014 is intended for the use of grantees and should not be transmitted to the Department.” This form should be included with your application. In column three of the same page (65 FR 31390), there is an incorrect website address. Line 31 should read http://ocfo.ed.gov/fedreg.htm

On page 31393, column two, line 49, remove “9. GPRA.”

FOR FURTHER INFORMATION CONTACT: John De Cleene or Todd May, Smaller Learning Communities Grant Program, U.S. Department of Education, 400 Maryland Avenue, SW, Washington, DC 20202. Telephone: (202) 260-2195 (John De Cleene) or (202) 260-0960 (Todd May). E-mail: smallerlearningcommunities@ed.gov

Individuals who use a telecommunications device for the deaf (TDD) may call the Federal Information Relay Service (FIRS) at 1-800-877-8339. Individuals with disabilities may obtain this notice in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 8005.

Dated: May 25, 2000.
Patricia McNeil,
Assistant Secretary for Elementary and Secondary Education.

BILLING CODE 4000-01-U

[FR Doc. 00-13575 Filed 5-30-00; 8:45 am]

BILLING CODE 4000-01-C